CONSUMER PRODUCT SAFETY COMMISSION

[Docket No. CPSC-2009-0092]

Agency Information Collection Activities; Submission for OMB Review; Comment Request—Standard for the Flammability of Clothing Textiles and Standard for the Flammability of Vinyl Plastic Film

AGENCY: Consumer Product Safety Commission.

ACTION: Notice.

SUMMARY: As required by the Paperwork Reduction Act of 1995, the Consumer Product Safety Commission (Commission or CPSC) announces that the Commission has submitted to the Office of Management and Budget (OMB) a request for extension of approval of a collection of information associated with the Standard for the Flammability of Clothing Textiles and the Standard for the Flammability of Vinyl Plastic Film, previously approved under OMB control number 3041-0024. On March 13, 2020, the CPSC published a notice in the Federal Register to announce the agency's intention to seek extension of approval of the collection of information. The Commission received no comments. Therefore, by publication of this notice, the Commission announces that CPSC has submitted to the OMB a request for extension of approval of that collection of information, without change.

DATES: Written comments on this request for extension of approval of information collection requirements should be submitted by June 25, 2020.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2009-0092.

FOR FURTHER INFORMATION CONTACT: Cynthia Gillham, Consumer Product Safety Commission, 4330 East West Highway, Bethesda, MD 20814; (301) 504-7791, or by email to: cgillham@cpsc.gov.

SUPPLEMENTARY INFORMATION:

A. Background

The Commission has promulgated several standards under section 4 of the Flammable Fabrics Act (FFA), 15 U.S.C. 1193, to prohibit the use of dangerously flammable textiles and related materials in wearing apparel. Clothing and fabrics intended for use in clothing (except children's sleepwear in sizes 0 through 14) are subject to the Standard for the Flammability of Clothing Textiles (16 CFR part 1610). Clothing made from vinyl plastic film and vinyl plastic film intended for use in clothing (except children's sleepwear in sizes 0 through 14) are subject to the Standard for the Flammability of Vinyl Plastic Film (16 CFR part 1611). These standards prescribe a test to ensure that articles of wearing apparel, and fabrics and film intended for use in wearing apparel, are not dangerously flammable because of rapid and intense burning. (Children's sleepwear and fabrics and related materials intended for use in children's sleepwear in sizes 0 through 14 are subject to other, more stringent flammability standards codified at 16 CFR parts 1615 and 1616).

Section 8 of the FFA (15 U.S.C. 1197) provides that a person who receives a guaranty in good faith that a product complies with an applicable flammability standard is not subject to criminal prosecution for a violation of the FFA resulting from the sale of any product covered by the guaranty. The CPSC uses the information compiled and maintained by firms that issue these guaranties to help protect the public from risks of injury or death associated with flammable clothing and fabrics and vinyl film intended for use in clothing. In addition, the information helps the CPSC arrange corrective actions if any products covered by a guaranty fail to comply with the applicable standard in a manner that creates a substantial risk of injury or death to the public. Section 8 of the FFA requires that a guaranty must be based on “reasonable and representative tests.” The testing and recordkeeping requirements by firms that issue guaranties are set forth under 16 CFR part 1610, subpart B, and 16 CFR part 1611, subpart B.

On March 13, 2020, the CPSC published a notice in the Federal Register (85 FR 14654), to announce the agency's intention to seek extension of approval of the collection of information. The Commission received no comments. Therefore, by publication of this notice, the Commission announces that CPSC has submitted to the OMB a request for extension of approval of that collection of information, without change.

B. Burden

The CPSC estimates that approximately 1,000 firms issue guaranties. Although the CPSC's past records indicate that approximately 675 firms have filed continuing guaranties at the CPSC, staff believes additional guarantees may be issued that are not filed with the Commission. Accordingly, staff has estimated the number of firms upwards to account for those guaranties to 1,000 firms. Staff estimated the burden hours based on an estimate of the time for each firm to conduct testing, issue guaranties, and to establish and maintain associated records.

• Burden Hours per Firm—An estimated 5 hours for testing per firm, using either the test and conditioning procedures in the regulations or alternate methods. Although many firms are exempt from testing to support guaranties under 16 CFR 1610.1(d), CPSC staff does not know the proportion of those firms that are testing vs. those that are exempt. Thus, staff has included testing for all firms in the burden estimates.

• Guaranties Issued per Firm—On average, 20 new guaranties are issued per firm per year for new fabrics or garments.

• Estimated Annual Testing Time per Firm—100 hours per firm (5 hours for testing × 20 guaranties issued = 100 hours per firm).

• Estimated Annual Recordkeeping per Firm—1 hour to create, record, and enter test data into a computerized dataset; 20 minutes (= 0.3 hours) for annual review/removal of records; 20 minutes (= 0.3 hours) to respond to one CPSC records request per year; for a total of 1.6 recordkeeping hours per firm (1 hour + .3 hours + .3 hours = 1.6 hours per firm).

• Total Estimated Annual Burden Hours per Firm—100 hours estimated annual testing time per firm + 1.6 estimated annual recordkeeping hours per firm = 101.6 hours per firm.

• Total Estimated Annual Industry Burden Hours—101.6 hours per firm × 1,000 firms issuing guaranties = 101,600 industry burden hours. The total annual industry burden imposed by the flammability standards for clothing textiles and vinyl plastic film and enforcement regulations on manufacturers and importers of garments, fabrics, and related materials is estimated to be about 101,600 hours (101.6 hours per firm × 1,000 firms).

• Total Annual Industry Cost—The hourly wage for the testing and recordkeeping required by the standards is approximately $70.17 (for management, professional, and related occupations in goods-producing industries, Bureau of Labor Statistics, September, 2019), for an estimated annual cost to the industry of approximately $7.1 million (101,600 × $70.17 = $7,129,272).

Alberta E. Mills,
Secretary, Consumer Product Safety Commission.

[FR Doc. 2020-11226 Filed 5-22-20; 8:45 am]

BILLING CODE 6355-01-P